DEPARTMENT OF THE INTERIOR

Bureau of Land Management

[NV-930-1430-ET; N-75850]

Notice of Proposed Withdrawal and Opportunity for Public Meeting; Nevada

AGENCY: Bureau of Land Management, Interior.

ACTION: Notice.

SUMMARY: The Bureau of Land Management proposes to withdraw 15 acres of public land for a period of 20 years to protect an interagency fire station site. This notice closes the land for up to 2 years from surface entry and mining while various studies and analyses are made to make a final decision on the withdrawal application.

DATES: Comments and requests for meeting should be received on or before December 31, 2002.

ADDRESSES: Comments and meeting requests should be sent to the Nevada State Director, BLM, 1340 Financial Blvd., P.O. Box 12000, Reno, Nevada 89520-0006.

FOR FURTHER INFORMATION CONTACT: Dennis J. Samuelson, BLM Nevada State Office, 775-861-6532.

SUPPLEMENTARY INFORMATION: On September 13, 2002, a petition was approved allowing the Bureau of Land Management to file an application to withdraw the following described public land from settlement, sale, location, or entry under the general land laws, including the mining laws, but not the mineral leasing laws, subject to valid existing rights:

Mount Diablo Meridian

T. 21 S., R. 54 E.,

Sec. 2, W½SW¼ of lot 3 and SE¼ of lot 4.

The area described contains 15 acres in Clark County.

The purpose of the proposed withdrawal is to protect a Bureau of Land Management interagency fire station site near Pahrump, Nevada.

For a period of 90 days from the date of publication of this notice, all persons who wish to submit comments, suggestions, or objections in connection with the proposed withdrawal may present their views in writing to the Nevada State Director of the Bureau of Land Management.

Notice is hereby given that an opportunity for a public meeting is afforded in connection with the proposed withdrawal. All interested persons who desire a public meeting for the purpose of being heard on the proposed withdrawal must submit a written request to the Nevada State Director within 90 days from the date of publication of this notice. Upon determination by the authorized officer that a public meeting will be held, a notice of the time and place will be published in the Federal Register at least 30 days before the scheduled date of the meeting.

The application will be processed in accordance with the regulations set forth in 43 CFR part 2300.

For a period of 2 years from the date of publication of this notice in the Federal Register, the land will be segregated as specified above unless the application is denied or canceled or the withdrawal is approved prior to that date. Other uses which will be permitted during this segregative period are rights-of-way, leases, and permits.

Dated: September 18, 2002.
Jim Stobaugh,
Lands Team Lead.

[FR Doc. 02-25032 Filed 10-1-02; 8:45 am]

BILLING CODE 4310-HC-P